DEPARTMENT OF ENERGY

Federal Energy Regulatory Commission

Combined Notice of Filings #1

September 5, 2007.

Take notice that the Commission received the following electric corporate filings:

Docket Numbers: EC07-127-000.

Applicants: Klamath Energy LLC, PPM Energy, Inc.

Description: PPM Energy, Inc et al. submits an application for authorization for a transaction under section 203 of the Federal Power Act and request for waivers, 21-day comment period etc.

Filed Date: 08/31/2007.

Accession Number: 20070904-0297.

Comment Date: 5 p.m. Eastern Time on Friday, September 21, 2007.

Docket Numbers: EC07-128-000.

Applicants: Iberdrola Renewable Energies USA, Ltd., PPM Energy, PPM Wind Energy LLC, Aeolus Wind Power IV LLC, Klondike Wind Power III LLC, MinnDakota Wind LLC, Northern Iowa Windpower II, LLC.

Description: Joint application of Iberdrola Renewable Energies USA, Ltd. and PPM Energy, Inc et al. requesting authorization for the indirect disposition of jurisdictional facilities owned by the Project Companies etc.

Filed Date: 08/31/2007.

Accession Number: 20070905-0075.

Comment Date: 5 p.m. Eastern Time on Friday, September 21, 2007.

Take notice that the Commission received the following electric rate filings:

Docket Numbers: ER07-1280-000.

Applicants: Portland General Electric Company.

Description: Portland General Electric Co. submits amendments to certain non-rate terms and conditions of its OATT.

Filed Date: 08/13/2007.

Accession Number: 20070815-0001.

Comment Date: 5 p.m. Eastern Time on Tuesday, September 14, 2007.

Docket Numbers: ER07-1315-001.

Applicants: Idaho Power Company.

Description: Idaho Power Co. submits an errata to the 8/30/07 filing of modifications to non-rate terms and conditions in its Order 890.

Filed Date: 08/31/2007.

Accession Number: 20070905-0066.

Comment Date: 5 p.m. Eastern Time on Friday, September 21, 2007.

Docket Numbers: ER07-1316-000.

Applicants: Entergy Services, Inc.

Description: Entergy Arkansas, Inc submits its First Revised Rate Schedule 130, an Interconnection Agreement with Associated Electric Coop, Inc.

Filed Date: 08/31/2007.

Accession Number: 20070904-0236.

Comment Date: 5 p.m. Eastern Time on Friday, September 21, 2007.

Docket Numbers: ER07-1317-000.

Applicants: Citizens Electric Co of Lewisburg.

Description: Citizens Electric Co of Lewisburg, PA submits FERC Oil Tariff, Original Volume No.1.

Filed Date: 08/31/2007.

Accession Number: 20070904-0235.

Comment Date: 5 p.m. Eastern Time on Friday, September 21, 2007.

Docket Numbers: ER07-1318-000.

Applicants: Wellsboro Electric Co.

Description: Wellsboro Electric Co requests acceptance of their FERC Oil Tariff, Original Volume 1.

Filed Date: 08/31/2007.

Accession Number: 20070904-0234.

Comment Date: 5 p.m. Eastern Time on Friday, September 21, 2007.

Docket Numbers: ER07-1319-000.

Applicants: Southwest Power Pool, Inc.

Description: Southwest Power Pool, Inc submits an executed service agreement for Network Integration Transmission Service et al. with Sunflower Electric Power Corp.

Filed Date: 08/31/2007.

Accession Number: 20070904-0233.

Comment Date: 5 p.m. Eastern Time on Friday, September 21, 2007.

Docket Numbers: ER07-1320-000

Applicants: Southwest Power Pool, Inc.

Description: Southwest Power Pool Inc submits executed service agreement for Network Integration Transmission Service with Kansas Electric Power Cooperative Inc etc.

Filed Date: 08/31/2007.

Accession Number: 20070904-0294.

Comment Date: 5 p.m. Eastern Time on Friday, September 21, 2007.

Docket Numbers: ER07-1321-000.

Applicants: Southern California Edison Company.

Description: Southern California Edison Co. submits a revised rate sheet to the Amended and Restated Midway Interconnection Agreement with Pacific Gas and Electric Co.

Filed Date: 08/31/2007.

Accession Number: 20070904-0232.

Comment Date: 5 p.m. Eastern Time on Friday, September 21, 2007.

Docket Numbers: ER07-1322-000.

Applicants: PJM Interconnection, L.L.C.

Description: PJM Interconnection, LLC submits an executed Wholesale Market Participation Agreement with Salem County Landfill Energy, LLC et al.

Filed Date: 08/31/2007.

Accession Number: 20070904-0324.

Comment Date: 5 p.m. Eastern Time on Friday, September 21, 2007.

Docket Numbers: ER07-1323-000.

Applicants: New England Power Company.

Description: New England Power Company dba National Grid submits amendment to Schedule 21-NEP in Section II of the ISO-NE Tariff etc.

Filed Date: 08/31/2007.

Accession Number: 20070904-0293.

Comment Date: 5 p.m. Eastern Time on Friday, September 21, 2007.

Docket Numbers: ER07-1324-000.

Applicants: ISO New England Inc.

Description: ISO New England Inc et al submits its proposal to add a new Schedule 5 to section IV.A of the ISO Tariff for the purpose of recovering funding for the operation of the New England States Committee on Electricity.

Filed Date: 08/31/2007.

Accession Number: 20070904-0296.

Comment Date: 5 p.m. Eastern Time on Friday, September 21, 2007.

Docket Numbers: ER07-1325-000; ER07-1326-000.

Applicants: Delmarva Power & Light Company.

Description: Delmarva Power & Light Company submits revised interconnection agreement with Old Dominion Electric Cooperative designated as First Revised Service Agreement 1132 etc.

Filed Date: 08/31/2007.

Accession Number: 20070904-0295.

Comment Date: 5 p.m. Eastern Time on Friday, September 21, 2007.

Docket Numbers: ER07-1327-000.

Applicants: Wabash Valley Power Association, Inc.

Description: Wabash Valley Power Association, Inc submits the Distribution Agreement for Electric Service implementing Industrial Load rate Schedule 2.

Filed Date: 08/31/2007.

Accession Number: 20070904-0231.

Comment Date: 5 p.m. Eastern Time on Friday, September 21, 2007.

Docket Numbers: ER07-1328-000.

Applicants: New England Power Pool.

Description: New England Power Pool Participants Committee submits copies of the counterpart signature pages of the New England Power Pool Agreement, dated as of 9/1/71, as amended.

Filed Date: 08/31/2007.

Accession Number: 20070831-0068.

Comment Date: 5 p.m. Eastern Time on Friday, September 21, 2007.

Docket Numbers: ER07-1329-000.

Applicants: New York Independent System Operator, Inc.

Description: New York Independent System Operator, Inc et al. submits an executed Small Generator Interconnection Agreement and requests waiver of the 60-day notice period.

Filed Date: 08/31/2007.

Accession Number: 20070905-0067.

Comment Date: 5 p.m. Eastern Time on Friday, September 21, 2007.

Docket Numbers: ER07-1330-000.

Applicants: Twin Cities Hydro LLC.

Description: Twin Cities Hydro LLC's application for market-based authorizations, certain waivers and blanket Authorizations and request for expedited action.

Filed Date: 08/31/2007.

Accession Number: 20070905-0068.

Comment Date: 5 p.m. Eastern Time on Friday, September 21, 2007.

Docket Numbers: ER07-1334-000.

Applicants: New York Independent System Operator, Inc.

Description: New York Independent System Operator, Inc submits proposed amendments to the Market Power Mitigation Measures for implementing the Real-Time Guarantee Payment Impact Test etc.

Filed Date: 08/31/2007.

Accession Number: 20070905-0072.

Comment Date: 5 p.m. Eastern Time on Friday, September 21, 2007.

Docket Numbers: ER07-1335-000.

Applicants: Santa Rosa Energy Center, LLC.

Description: Santa Rosa Energy Center, LLC submits a Notice of Succession re a change in name.

Filed Date: 08/31/2007.

Accession Number: 20070905-0062.

Comment Date: 5 p.m. Eastern Time on Friday, September 21, 2007.

Docket Numbers: ER07-1336-000.

Applicants: TransAlta Centralia Generation LLC.

Description: TransAlta Centralia Generation, LLC submits changes to its Rate Schedule FERC 1 and 2.

Filed Date: 08/31/2007.

Accession Number: 20070905-0063.

Comment Date: 5 p.m. Eastern Time on Friday, September 21, 2007.

Docket Numbers: ER07-1337-000.

Applicants: New York State Electric & Gas Corporation.

Description: New York State Electric & Gas Corp submits a notice of cancellation of a Service Agreement.

Filed Date: 08/31/2007.

Accession Number: 20070905-0073.

Comment Date: 5 p.m. Eastern Time on Friday, September 21, 2007.

Take notice that the Commission received the following electric securities filings:

Docket Numbers: ES07-43-002.

Applicants: PSEG Fossil LLC

Description: Supplemental filing of PSEG Nuclear LLC, et al.

Filed Date: 09/04/2007.

Accession Number: 20070904-5103.

Comment Date: 5 p.m. Eastern Time on Tuesday, September 14, 2007.

Docket Numbers: ES07-44-002.

Applicants: PSEG Nuclear LLC.

Description: Supplemental filing of PSEG Nuclear LLC, et al.

Filed Date: 09/04/2007.

Accession Number: 20070904-5103.

Comment Date: 5 pm Eastern Time on Tuesday, September 25, 2007.

Docket Numbers: ES07-45-002.

Applicants: PSEG Energy Resources & Trade LLC.

Description: Supplemental filing of PSEG Nuclear LLC, et al.

Filed Date: 09/04/2007.

Accession Number: 20070904-5103.

Comment Date: 5 p.m. Eastern Time on Tuesday, September 14, 2007.

Docket Numbers: ES07-58-000.

Applicants: Old Dominion Electric Cooperative, Inc.

Description: Application for Authorization to Issue Long-term Debt of Old Dominion Electric Cooperative.

Filed Date: 08/31/2007.

Accession Number: 20070831-5086.

Comment Date: 5 p.m. Eastern Time on Friday, September 21, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-18737 Filed 9-21-07; 8:45 am]

BILLING CODE 6717-01-P